DEPARTMENT OF COMMERCE

National Oceanic and Atmospheric Administration

[RTID 0648-XF157]

National Saltwater Angler Registry Program

AGENCY: National Marine Fisheries Service (NMFS), National Oceanic and Atmospheric Administration, Commerce.

ACTION: Notice.

SUMMARY: NMFS has established an annual fee of 12 dollars ($12.00) for anglers, spear fishers, and for hire fishing vessels to register under the National Saltwater Angler Registry Program.

DATES: The registration fee will be required effective September 3, 2025.

ADDRESSES: NMFS OST-12453, 1215 East West Highway, Silver Spring, Maryland 20910.

FOR FURTHER INFORMATION CONTACT: Gordon C. Colvin; (240) 357-4524; email: gordon.colvin@noaa.gov.

SUMMARY: The final rule implementing the National Saltwater Angler Registry program, 50 CFR 600 Subpart P, was published in the Federal Register on December 30, 2008. The final rules states that persons registering with NMFS must pay an annual fee effective January 1, 2011 and that NMFS will publish the annual schedule for such fees in the Federal Register. The current annual fee for registration has been $15.00 since 2022. NMFS policy requires that fees be reviewed periodically, at least every 2 years, and be revised to reflect changes in estimated costs of administration of the program that administers the fees. NMFS has completed a review of the cost of the program and has determined that the fee for anglers, spear fishers, and for hire fishing vessels will be reduced to $12.00. All persons registering on or after September 3, 2025 will be required to pay that fee unless they are exempt as indigenous people per the provisions of 50 CFR 600.1410(f).

Dated: August 28, 2025.
Samuel D. Rauch III,
Deputy Assistant Administrator for Regulatory Programs, National Marine Fisheries Service.

[FR Doc. 2025-16830 Filed 9-2-25; 8:45 am]

BILLING CODE 3510-22-P